DEPARTMENT OF LABOR

Employment and Training Administration

[TA-W-39,266]

TDK Ferrites Corporation, Shawnee, Oklahoma; Notice of Revised Determination on Reconsideration

By letter of September 10, 2001, the petitioners requested administrative reconsideration regarding the Department's Notice of Determination Regarding Eligibility to Apply for Worker Adjustment Assistance, applicable to the workers of the subject firm.

The initial investigation resulted in a negative determination for the workers engaged in the production of CR core ferrites and micro cores ferrites issued on August 29, 2001, based on the finding that the “contributed importantly” test of the Group Eligibility Requirements of the Trade Act was not met. Also in the initial investigation the workers engaged in the production of EU core ferrites were certified eligible to apply for adjustment assistance under Section 223 of the Trade Act of 1974. The notice was published in the Federal Register on September 11, 2001 (66 FR 47241).

To support the petitioners' request for reconsideration, the company provided in evidence to show that the company increased their imports of CR core ferrites during the relevant period.

Conclusion

After careful review of the additional facts obtained on reconsideration, I conclude that increased imports of articles like or directly competitive with CR core parts produced at TDK Ferrites Corporation, Shawnee, Oklahoma, contributed importantly to the decline in sales or production and to the total or partial separation of workers at the subject firm. In accordance with the provisions of the Act, I make the following certification:

All workers of TDK Ferrites Corporation, Shawnee, Oklahoma, engaged in activities related to the production of CR core ferrites and EU core ferrites who became totally or partially separated from employment on or after April 25, 2000 through two years from the date of this certification, are eligible to apply for adjustment assistance under Section 223 of the Trade Act of 1974.

Signed in Washington, DC, this 24th day of September, 2001.
Edward A. Tomchick,
Director, Division of Trade Adjustment Assistance.

[FR Doc. 01-26364 Filed 10-18-01; 8:45 am]

BILLING CODE 4510-30-M